DEPARTMENT OF AGRICULTURE

Forest Service

Wallowa-Whitman National Forest, Baker County, Oregon; North Fork Burnt River Mining

AGENCY: Forest Service, USDA.

ACTION: Notice of intent to prepare a supplement to a final environmental impact statement.

SUMMARY: The USDA, Forest Service will prepare a supplemental environmental impact statement (SEIS) to address the order of Judge Paul Papak, United States District Court, District of Oregon (Hells Canyon Preservation Council, and Northwest Environmental Defense Center v. Richard J. Haines, Steve Ellis, and United States Forest Service, August 4, 2006). Specifically the court found that the April 2004 North Fork Burnt River Final Environmental Impact Statement was deficient because the Agency: (1) Did not require a certificate of compliance under 33 U.S.C. 1341(a)(1), also referred to as 401 under the Clean Water Act, prior to approvals of the Plans of Operations, (2) failed to ensure that authorized mining activities will comply with 313 of the Clean Water Act, 33 U.S.C. 1323(a), on the 303(d) listed waters for water-quality limited for sedimentation, (3) failed to adequately analyze the selection of buffer widths for the riparian habitat conservation areas (RHCAs) and as such is inconsistent with INFISH standard MM-1, (4) failed to adequately analyze the necessity of new roads and whether alternatives exist and to provide specific assurances that the new road construction will comply with INFISH standard MM-2, (5) incorrectly determined that settling ponds are not structures subject to INFISH standard MM-2 and therefore failed to perform the required analysis under MM-2 as to alternative locations; and (6) failed to adequately analyze whether mining and private property access needs, administrative use and needs of other forest users are warranted exceptions to the open-road density guidelines of the Wallowa-Whitman National Forest Land Management Plan.

The SEIS will provide additional information and analysis to address the deficiencies noted by the court in the 2004 FEIS, and record the analysis of a proposed non-significant project-specific amendment to the Wallowa-Whitman National Forest's Land and Resource Management Plan (LRMP) to change Standard #12 and Standard #13 for Management Area 1(LRMP pg. 4-58), and Standard #9 for Management Area 3, 3a (LRMP pg. 4-62) to reflect a more realistic and achievable open road density for these management areas in subwatersheds 83B, 83C, 83D, 83E, 83F and 83G within the North Fork Burnt River Mining planning area in light of the current and projected land uses and management activities for the foreseeable future.

DATES: Comments on the scope of the analysis must be postmarked by April 6, 2007, and should be addressed to the Responsible Official below.

ADDRESSES: Send written comments and suggestions to Steve Ellis, Forest Supervisor, Wallowa-Whitman National Forest, PO Box 907, Baker City, OR, 97814, or fax comments to (541) 523-1315. Written comments may be delivered to the office in Baker City, at 1550 Dewey Avenue during normal business hours, up through 5 p.m. April 6, 2006.

Electronic Comments: Comments may also be e-mailed to: comments-pacificnorthwest-wallowa-whitman-whitmanunit@fs.fed.us, by 5 p.m. April 6, 2007. Those submitting electronic copies must do so only to the e-mail address listed above, must put the project name in the subject line, and must either submit comments as part of the e-mail message or as an attachment only in one of the following three formats: Microsoft Word, rich text format (rtf) or Abobe Portable Document Format (pdf). E-mails submitted to e-mail addresses other than the one listed above or in other formats that those listed or containing viruses will be rejected.

Comments received in response to this solicitation, including names and addresses of those who comment, will be considered part of the public record on this proposed action and will be available for public inspection. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within 10 days.

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice) or (202) 720-6382 (TDD). USDA is an equal opportunity provider and employer.

FOR FURTHER INFORMATION CONTACT: Sophia Miller, Interdisciplinary Team Leader, Wallowa-Whitman National Forest, Wallowa Mountains Office, 88401 Hwy 82, Box A, Enterprise, OR, Phone: (541) 426-5540.

SUPPLEMENTARY INFORMATION: Scoping is not required for supplements to environmental impact statements (40 CFR 1502.9(c)(4)). However, at their discretion the Agency is inviting comments at this time. Comments are sought to help the Agency identify specific information needs and analytical methodologies necessary to fully address the court identified deficiencies. For comments to be most useful, they should be as specific as possible and submitted in writing by the date identified above.

A notice will be prepared and circulated to affected Federal, State, and local agencies, affected tribes and individuals and organizations previously expressing an interest in the 2004 FEIS.

The Forest Supervisor for the Wallowa-Whitman National Forest is the Responsible Official. The Responsible Official will decide whether or not to (1) Incorporate the supplemental analysis into the FEIS, and (2) amend the LRMP to change specific LRMP standards and guidelines for open road densities in subwatersheds 83B, 83C, 83D, 83E, 83F and 83G within the North Fork Burnt River Mining planning area.

The Responsible Official will also document the decision and reasons for the decision in the Record of Decision. This Record of Decision will replace and supercede the vacated 2004 Record of Decision for the North Fork Burnt River Mining FEIS. This decision will be subject to Forest Service Appeal Regulations (36 CFR part 215).

Dated: February 13, 2007.
Steven A. Ellis,
Wallowa-Whitman National Forest Supervisor.

[FR Doc. 07-750 Filed 2-20-07; 8:45 am]

BILLING CODE 3410-11-M